DEPARTMENT OF EDUCATION

Notice of Proposed Information Collection Requests

AGENCY: Department of Education.

SUMMARY: The Director, Information Collection Clearance Division, Regulatory Information Management Services, Office of Management, invites comments on the proposed information collection requests as required by the Paperwork Reduction Act of 1995.

DATES: Interested persons are invited to submit comments on or before June 9, 2009.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: April 6, 2009.
Angela C. Arrington,
Director, Information Collections Clearance Division, Regulatory Information Management Services, Office of Management.

Institute of Education Sciences

Type of Review: New.

Title: Fast Response Survey System (FRSS) 100-103—Arts Education in Public Elementary and Secondary Schools (KA).

Frequency: One time.

Affected Public: State, Local, or Tribal Gov't, SEAs or LEAs.

Reporting and Recordkeeping Hour Burden:

Responses: 9,286.

Burden Hours: 3,939.

Abstract: The National Center for Education Statistics (NCES), U.S. Department of Education, proposes to employ the Fast Response Survey System (FRSS) to conduct a set of seven surveys on arts education, as requested by Congress—Senate Report 110-107/House Bill report H16251. FRSS was used to conduct previous national surveys on arts education in 1999-2000 and 1994. The seven new FRSS surveys will be administered during the 2009-10 school year and will address topics in K-12 arts education at the elementary and secondary school- and teacher-levels. A different survey will be conducted for each of the following populations: Elementary school principals; Secondary school principals; Elementary general classroom teachers; Elementary visual arts specialists; Elementary music specialists; Secondary visual arts specialists; and Secondary music specialists. The surveys will allow for an examination of change in arts education from a decade ago, including topics such as the availability and characteristics of instructional programs in visual arts, music, dance, and drama/theatre; program staffing; funding sources; teachers' educational backgrounds (e.g., degrees, certification, years of experience), participation in professional development activities; teaching load and practices; collaboration and integration of the arts into other areas of the curriculum; and involvement in arts-related activities outside of school. New in the 2009-10 data collection are two teacher surveys at the secondary school level, which will provide baseline data for secondary school music and visual arts specialists and will report on topics similar to the elementary music and visual arts specialist surveys, with some additional topics specific to the secondary level, such as Advanced Placement and International Baccalaureate classes, and visual arts classes taught outside regular school hours.

Requests for copies of the proposed information collection request may be accessed from http://edicsweb.ed.gov, by selecting the “Browse Pending Collections” link and by clicking on link number 4006. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-8209 Filed 4-9-09; 8:45 am]

BILLING CODE 4000-01-P